DEPARTMENT OF ENERGY

Federal Energy Regulatory Commission

[Docket No. EG02-145-000]

LG&E Trust No. 2001-A; Notice of Application for Commission Determination of Exempt Wholesale Generator Status

June 11, 2002.

Take notice that on June 5, 2002, LG&E Trust No. 2001-A (Applicant) filed with the Federal Energy Regulatory Commission (Commission),an application for determination of exempt wholesale generator status pursuant to Part 365 of the Commission's regulations.

Pursuant to a synthetic lease arrangement, Applicant holds legal title to two 152 MW (summer rating) combustion turbine electric generating units in Trimble County, Kentucky. LG&E Capital Trimble County LLC is the beneficial owner of the units, which began commercial operations in May, 2002.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: July 2, 2002.

Magalie R. Salas,
Secretary.

[FR Doc. 02-15169 Filed 6-14-02; 8:45 am]

BILLING CODE 6717-01-P